DEPARTMENT OF THE INTERIOR

National Park Service

[NPS-WASO-PCE-COR-10909; 2230-STC]

60-Day Notice of Intention To Request Clearance of Collection of Information; Opportunity for Public Comment

AGENCY: National Park Service, Interior.

ACTION: Notice; request for comments.

SUMMARY: We (National Park Service) will ask the Office of Management and Budget (OMB) to approve the information collection (IC) described below. To comply with the Paperwork Reduction Act of 1995 and as a part of our continuing efforts to reduce paperwork and respondent burden, we invite the general public and other Federal agencies to comment on this IC. We may not conduct or sponsor and a person is not required to respond to a collection unless it displays a currently valid OMB control number.

DATES: Please submit your comment on or before October 19, 2012.

ADDRESSES: Please send your comments on the proposed IC to Madonna Baucum, Information Collection Clearance Officer, National Park Service, 1201 Eye St. NW., Mailstop 2605 (Rm. 1242), Washington, DC 20005 (mail); via fax at 202/371-6741, or via email to madonna_baucum@nps.gov. Please reference IC “1024-National Recreation Trails and National Water Trails System” in the subject line.

FOR FURTHER INFORMATION CONTACT: Helen Scully, National Trails System Program Specialist/National Recreation Trails Coordinator, Department of the Interior, 1201 Eye St. NW., Washington, DC 20005. You may send an email to helen_scully@nps.gov or contact her by telephone at (202/354-6910) or via fax at (202/371-5179).

SUPPLEMENTARY INFORMATION:

I. Abstract

The purpose of this information collection is to assist the National Park Service (NPS) in submitting suitable trails or trail systems to the Secretary of the Interior for designation as National Recreation Trails (NRTs), and in recommending exemplary water trails to the Secretary of the Interior for designation as National Water Trails (NWTs) to be included in the National Water Trails System (NWTS). The information collected will be used by the NPS, U.S. Fish and Wildlife Service, U.S. Bureau of Land Management, U.S. Bureau of Reclamation, and U.S. Army Corps of Engineers to evaluate the applications for adherence to NRT requirements and criteria and for NWTs, to determine if additional best management practices have been met.

The NPS administers the NRT program by authority of section 4 of the National Trails System Act (16 U.S.C. 1243). Secretarial Order No. 3319 established National Water Trails as a class of National Recreation Trails and directed that such trails collectively be considered in a National Water Trail System.

Designation as a NRT provides national recognition to local and regional trails or trail systems, acknowledging local and state efforts to build and maintain viable trails and trail systems. This recognition function is shared by the Secretary of Agriculture (for trails on National Forest lands and waters) and the Secretary of the Interior (for all other trails). The Secretary of the Interior has delegated NRT coordination to the NPS, which also maintains the system of record for the more than 1,200 NRTs and 9 NWTs designated to date.

The NWTS is focused on building a national network of exceptional water trails that can be sustained by an ever growing and vibrant water trail community. The NWTS connects Americans to the nation's waterways and strengthens the conservation and restoration of those waterways. Best management practices provide high quality water-based outdoor recreational opportunities.

II. Data

OMB Control Number: 1024-New.

Title: National Recreation Trails.

Form(s): Online application form for NRTs, and pdf application form for NWTs.

Type of Request: Existing collection in use without approval.

Automated Data Collection: No.

Will the Information Be Collected Electronically? Yes.

Description of Respondents: Federal agency land units; private individuals; state, tribal, and local governments; businesses; educational institutions; and nonprofit organizations.

Respondent's Obligation: Required to obtain or retain benefits.

Frequency of Collection: On occasion.

Estimated Number of Responses: 80.

Estimated Annual Burden Hours: 90. We estimate the public reporting burden will average 60 minutes per response for the NRT application and 90 minutes per response for the NWTS application.

| Estimated number of responses | Estimated annual burden hours
NRT Application | 60 | 60
NWTS Application | 20 | 30

Estimated Annual Reporting and Recordkeeping “Non-Hour Cost”: None.

Description of Need: The purpose of this information collection is to provide sufficient data for a trail or trail system to be considered for designation as a National Recreation Trail or National Water Trail by the Secretary of the Interior.

Public Disclosure Statement: The PRA (44 U.S.C. 3501, et seq.) provides that an agency may not conduct or sponsor a collection of information unless it displays a currently valid OMB control number and current expiration date.

III. Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can request in your comment to withhold your personal identifying information from public review, we cannot guarantee that it will be done.

Dated: August 13, 2012.
Madonna L. Baucum,
Information Collection Clearance Officer, National Park Service.

[FR Doc. 2012-20358 Filed 8-17-12; 8:45 am]

BILLING CODE 4312-52-P